OFFICE OF PERSONNEL MANAGEMENT

Comment Request for Review of a Generic Information Collection: Program Services Evaluation Surveys

AGENCY: Office of Personnel Management.

ACTION: 60-Day notice and request for comments.

SUMMARY: The Office of Personnel Management (OPM) intends to submit to the Office of Management and Budget (OMB) a request for review of a currently approved collection, Program Services Evaluation Surveys, as a Generic Collection. Approval of the Program Services Evaluation Surveys is necessary to collect information on Federal agency and program performance, climate, engagement, leadership effectiveness, and give OPM the ability to customize each survey based on client requirements.

DATES: Comments are encouraged and will be accepted until April 18, 2022.

ADDRESSES: You may submit comments, identified by docket number and/or Regulatory Information Number (RIN) and title, by the following method:

• Federal Rulemaking Portal: http://www.regulations.gov Follow the instructions for submitting comments. The general policy for comments and other submissions from members of the public is to make these submissions available for public viewing at http://www.regulations.gov as they are received without change, including any personal identifiers or contact information.

FOR FURTHER INFORMATION CONTACT: A copy of this information collection request, with applicable supporting documentation, may be obtained by contacting Human Resources Solutions/HR Strategy and Evaluation Solutions, Office of Personnel Management, 1900 E Street NW, Washington, DC 20415, Attention: Bernard J. Nickels, Ph.D., or via email to Organizational_Assessment@opm.gov; or by phone at 202-606-8001.

SUPPLEMENTARY INFORMATION: As required by the Paperwork Reduction Act of 1995 (Pub. L. 104-13, 44 U.S.C. chapter 35), as amended by the Clinger-Cohen Act (Pub. L. 104-106), OPM is soliciting comments for this collection. The previous collection (OMB No. 3206-0252, published in the Federal Register on May 27, 2021 at 86 FR 28645) has a clearance that expires May 3, 2022. Comments are particularly invited on:

1. Whether the proposed collection of information is necessary for the proper performance of the functions of the agency, including whether the information will have practical utility;

2. Whether our estimate of the public burden of this collection is accurate, and based on valid assumptions and methodology; and

3. Ways in which we can minimize the burden of the collection of information on those who are to respond, through the use of the appropriate technological collection techniques or other forms of information technology.

OPM's Human Resources Strategy and Evaluation Solutions performs assessment and related consultation activities for Federal agencies on a reimbursable basis. The assessments are authorized by various statutes and regulations: Section 4702 of Title 5, U.S.C.; E.O. 12862; E.O. 13715; Section 1128 of the National Defense Authorization Act for Fiscal Year 2004, Public Law 108-136; 5 U.S.C. 1101 note, 1103(a)(5), 1104, 1302, 3301, 3302, 4702, 7701 note; E.O. 13197, 66 FR 7853, 3 CFR 748 (2002); E.O. 10577, 12 FR 1259, 3 CFR, 1954-1958 Comp., p. 218; and Section 4703 of Title 5, United States Code.

This collection request includes surveys we currently use and plan to use during the next three years to measure agency performance, climate, engagement, and leadership effectiveness. OMB No. 3206-0252 covers a broad range of surveys all focused on improving organizational performance. Non-Federal respondents will almost never receive more than one of these surveys. All of these surveys consist of Likert-type, mark-one, and mark-all-that-apply items, and may include a small number of open-ended comment items. The surveys included under OMB No. 3206-0252 are almost always administered electronically.

Analysis

Agency: Human Resources Strategy and Evaluation Solutions, Office of Personnel Management.

Title: Program Services Evaluation Surveys.

OMB: 3206-0252.

Frequency: On occasion.

Affected Public: Government contractors and individuals.

Number of Respondents: 78,780.

Estimated Time per Respondent: 12 minutes.

Total Burden Hours: 15,756 hours.

Office of Personnel Management.
Kellie Cosgrove Riley,
Director, Office of Privacy and Information Management.

[FR Doc. 2022-03219 Filed 2-14-22; 8:45 am]

BILLING CODE 6325-43-P